ENVIRONMENTAL PROTECTION AGENCY

[IL 200, IN 130, WI 97-01-7328; FRL-6719-6]

Adequacy Status of Chicago, IL, Northwest Indiana, IN, and Milwaukee, WI in Submitted Ozone Attainment Demonstrations for Transportation Conformity Purposes

AGENCY: Environmental Protection Agency (EPA).

ACTION: Notice of adequacy.

SUMMARY: In this document, EPA is notifying the public that EPA has found that the motor vehicle emissions budgets in each of the three Lake Michigan area ozone attainment demonstrations are adequate for transportation conformity purposes. The three areas affected are: Chicago, Illinois; Northwest Indiana (Lake and Porter Counties), Indiana, and Milwaukee, Wisconsin. On March 2, 1999, the D.C. Circuit Court ruled that submitted State Implementation Plans (SIPs) cannot be used for transportation conformity determinations until EPA has affirmatively found the motor vehicle emission budgets adequate. We have made that finding in letters to the States affected and are providing notice to the public in this Federal Register. As a result of our finding, Chicago, Northwest Indiana and Milwaukee can use the motor vehicle emissions budgets from their submitted ozone attainment demonstrations for future transportation conformity determinations. The motor vehicle emissions budgets are for two pollutants, volatile organic compounds (VOC) and oxides of nitrogen (NOx), that combine to form ground level-ozone. Ozone can cause inflamation of the lungs, decrease lung capacity, and aggravate asthma. These budgets are effective July 5, 2000.

FOR FURTHER INFORMATION CONTACT: The finding and the response to comments will be available at EPA's transportation conformity website: http://www.epa.gov/oms/traq, (once there, click on the “Conformity” button, then look for “Adequacy Review of SIP Submissions for Conformity”).

Ryan Bahr, Environmental Engineer, Regulation Development Section (AR-18J), Air Programs Branch, Air and Radiation Division, United States Environmental Protection Agency, Region 5, 77 West Jackson Boulevard, Chicago, Illinois 60604, (312) 353-4366, bahr.ryan@epa.gov.

SUPPLEMENTARY INFORMATION:

Background:

Throughout this document, whenever “we,” “us” or “our” is used, we mean EPA. Today's notice is simply an announcement of a finding that we have already made. EPA Region 5 sent letters to the Illinois Environmental Protection Agency on March 24, 2000, and May 31, 2000, stating that both the VOC and NOx motor vehicle emissions budgets in the Chicago, Illinois submitted ozone attainment demonstration for 2007 are adequate. EPA sent similar letters to the Indiana Department of Environmental Management on May 8, 2000, and May 31, 2000. Similar letters were sent to the Wisconsin Department of Natural Resources on May 1, 2000, and May 31, 2000.

Before making these findings, we opened a 30 day public comment period for the adequacy of mobile source vehicle emission budgets in the States' submittals. No comments were received during this comment period. However, there were comments received during the comment period relating to the proposed conditional approval of the attainment demonstration SIPs. After examining those comments, we determined that several applied to the adequacy process and while they were not submitted during the adequacy comment period, they should be addressed. We responded to these comments and issued supplemental letters to Illinois, Indiana, and Wisconsin finalizing the adequacy findings on May 31, 2000. All three letters found that the VOC and NOx motor vehicle emissions budgets in the submitted ozone attainment demonstrations for 2007 are adequate. These findings and the response to comments will also be announced on EPA's conformity website: http://www.epa.gov/oms/traq, (once there, click on the “Conformity” button, then look for “Adequacy Review of SIP Submissions for Conformity”).

Transportation conformity is required by section 176(c) of the Clean Air Act. EPA's conformity rule requires that transportation plans, programs, and projects conform to state air quality implementation plans and establishes the criteria and procedures for determining whether or not they do. Conformity to a SIP means that transportation activities will not produce new air quality violations, worsen existing violations, or delay timely attainment of the national ambient air quality standards.

The criteria by which we determine whether a SIP's motor vehicle emission budgets are adequate for transportation conformity purposes are outlined in 40 CFR 93.118(e)(4). Please note that an adequacy review is separate from EPA's completeness review, and it also should not be used to prejudge EPA's ultimate approval of the SIP. Even if we find a budget adequate, the SIP could later be disapproved.

We've described our process for determining the adequacy of submitted SIP motor vehicle emission budgets in guidance (May 14, 1999 memo titled “Conformity Guidance on Implementation of March 2, 1999 Conformity Court Decision”). We followed this guidance in making our adequacy determination.

Authority: 42 U.S.C. 7401-7671q.

Dated: June 8, 2000.
Norman Niedergang,
Acting Regional Administrator, Region 5.

[FR Doc. 00-15508 Filed 6-19-00; 8:45 am]

BILLING CODE 6560-50-P